DEPARTMENT OF AGRICULTURE

Food and Nutrition Service

Agency Information Collection Activities: Proposed Collection; Comment Request—Third National Survey of WIC Participants (NSWP-III)

AGENCY: Food and Nutrition Service (FNS), Department of Agriculture (USDA).

ACTION: Notice and request for comments.

SUMMARY: In accordance with the Paperwork Reduction Act of 1995, this notice invites the general public and other public agencies to comment on this proposed information collection. This collection is a new collection to conduct the Third National Survey of WIC Participants (NSWP-III).

DATES: Written comments must be received on or before November 27, 2017.

ADDRESSES: Comments may be sent to: Anthony Panzera, Food and Nutrition Service, U.S. Department of Agriculture, 3101 Park Center Drive, Room 1014, Alexandria, VA 22302. Comments may also be submitted via fax to the attention of Anthony Panzera at 703-305-2576, or via email to Anthony.Panzera@fns.usda.gov. Comments will also be accepted through the Federal eRulemaking Portal. Go to http://www.regulations.gov and follow the online instructions for submitting comments electronically.

All responses to this notice will be summarized and included in the request for Office of Management and Budget approval. All comments will be a matter of public record.

FOR FURTHER INFORMATION CONTACT: Requests for additional information or copies of this information collection should be directed to Anthony Panzera at Anthony.Panzera@fns.usda.gov, or 703-305-2309.

SUPPLEMENTARY INFORMATION:

Title: Third National Survey of WIC Participants (NSWP-III).

Form Number: N/A.

OMB Number: Not yet assigned.

Expiration Date: Not yet determined.

Type of Request: New collection.

Abstract: The Third National Survey of WIC Participants (NSWP-III) is designed to provide nationally representative estimates of improper payments in the WIC program arising from errors in the certification or denial of WIC applicants, to investigate potential State and local agency characteristics that may correlate with these errors, and to assess WIC participants' reasons for satisfaction or dissatisfaction with the program. The NSWP-III builds on three previous studies and reports spanning several decades.

The study has two purposes. The first is to obtain the data necessary to accomplish the study objectives. To accomplish study objectives, the following data collections are planned: (1) A Certification Survey with up to 2,000 recently certified WIC participants; (2) a Denied Applicant Survey with up to 240 WIC applicants who did not qualify for the program; (3) a Program Experiences Survey with up to 1,500 current WIC program participants; (4) a Former Participant Case Study with 520 inactive WIC program participants who have stopped redeeming WIC benefits; (5) a State Agency Survey with 90 agencies, including 50 States and the District of Columbia, the 34 Indian Tribal Organizations (ITOs), and 5 U.S. Territories; (6) and a Local WIC Agency Survey with 965 local WIC agency directors. In addition, 20 Local WIC Agency staff will be maintaining a Denied Applicants Log.

The second purpose is to pilot a new methodology for the future annual estimates of improper payments in the WIC program. Under this approach, the data collection instruments and recruiting materials, developed for the 2018 Certification Survey and Denied Applicants Survey, will be fielded in 2019 and 2020 by replacing one of 10 “panels” from the 2018 sample with newly selected WIC participants (180 per year) and denied applicants (24 per year); these data will be pooled with the extant 2018 data from the remaining (non-replaced) panels to update the estimates of improper payments in each year. Data collection activities in these 2 years will include recruiting recently certified WIC participants to complete the Certification Survey and denied WIC applicants to complete the Denied Applicant Survey.

Comments are invited on the following topics: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques, and/or other forms of information technology.

Affected Public: This study includes two respondent groups: (1) State, Local, and Tribal Government (State WIC agency directors and local WIC agency directors); and (2) Individuals or Households (current WIC program participants, denied applicants, and former WIC participants).

Estimated Number of Respondents: The total estimated number of respondents is 6,517. This figure includes 4,355 respondents and 2,162 non-respondents. This study will include six data collection activities.

The initial sample for the State Agency Survey will consist of 90 State WIC agency directors. Assuming that 100 percent respond to the web-based survey, the resulting respondent sample will include approximately 90 State WIC agency directors.

Local WIC agency directors will also complete a web-based survey, the Local WIC Agency Survey. The initial sample will include 965 local WIC agency directors and, assuming an 80 percent response rate, the final sample will result in 772 local WIC agency directors.

The initial sample size for the Certification Survey is 2,000 current WIC program participants. A portion of the current WIC program participants in the sample unit may complete up to two surveys, the Certification Survey and the Program Experiences Survey. A sample of 1,000 current WIC program participants, a subset of the sample of 2,000 WIC program participants, will be recruited to complete both the Certification Survey and the Program Experiences Survey interviews in person during the same visit. Assuming an 80 percent response rate for each survey, a total of 1,600 current WIC program participants will complete Certification Surveys, and 800 will also complete the Program Experiences Survey.

An additional sample for the Program Experiences Survey will be administered by telephone or in person during a follow-up home visit. The initial sample size is 1,500 current WIC program participants, and assuming an 80 percent response rate, the final sample will include 1,200 current program participants (750 by telephone and 450 in-person).

The Denied Applicant Survey, administered in person, will include an initial sample of 240 recently denied WIC program applicants. Assuming an 80 percent response rate, the final sample will be 192 recently denied WIC program applicants.

This study includes a Former WIC Participant Case Study with an initial sample of 520 former WIC program participants. As a qualitative case study with people who are no longer participating in the program, the expected response rate is 30 percent. This response rate will result in 156 respondents who will be asked screening questions. Assuming 20 percent are screened out, the final screened sample will be 125 former participants.

The Alternative Methodology Pilot Studies will take place in 2019 and 2020. The initial sample size for each is estimated to be 180 current WIC program participants for the Certification Survey sample and 24 recently denied WIC program applicants for the Denied Applicant Survey sample. Assuming an 80 percent response rate for each sample, the resulting respondent sample will include approximately 150 current WIC program participants and 19 recently denied WIC program applicants for each year.

As part of the 2018 data collection activities, an initial sample of 20 Local Agency staff will maintain a Denied Applicants Log. FNS expects that all of the staff will maintain this log.

There is pre-testing burden associated with this collection that was reviewed and approved by OMB on September 22, 2016, under OMB #0584-0606 FNS Generic Clearance Pre-Testing, Pilot, and Field Test Studies. A total of 2,213 responses and 102 burden hours were approved under the generic clearance.

Estimated Frequency of Responses per Respondent: FNS estimates that the frequency of responses per respondent will average 5.35 responses per respondent (including respondents and non-respondents) across the entire collection. State agency directors, local WIC agency directors, denied applicants, and former WIC participants will provide a one-time response during their respective survey or interview. A portion of the current WIC participants will be invited to complete two surveys, although most will provide responses on only one survey. Each respondent type may be contacted several times by telephone, mail, email, and home visits to encourage participation and, when appropriate, to remind the respondent of the importance of their contribution to this study.

Estimated Total Annual Responses: The total number of responses (including respondents and non-respondents) expected across all respondent categories is 34,859. FNS estimates that 34,839 responses are related to the reporting burden and 20 responses for the recordkeeping burden.

Estimated Time per Response: The estimated time will vary depending on the respondent category and will range from 1.2 minutes (0.02 hours) to 3 hours. The following table outlines the estimated total annual burden for each type of respondent. Across all study respondents and non-respondents, the average estimated time per response is 0.14 hours.

Estimated Total Annual Burden Hours on Respondents: 4,853.98 hours (see table below for estimated total annual burden hours by type of respondent). This includes 4,793.98 hours for reporting and 60 hours for recordkeeping.

Dated: September 12, 2017.
Brandon Lipps,
Administrator, Food and Nutrition Service.

BILLING CODE 3410-30-P

[FR Doc. 2017-20117 Filed 9-26-17; 8:45 am]

BILLING CODE 3410-30-C